Title 3—

The President

Proclamation 8106 of February 16, 2007

275th Anniversary of the Birth of George Washington

By the President of the United States of America

A Proclamation

Two hundred seventy-five years after the birth of George Washington, we honor the life and legacy of a surveyor from Virginia who became Commander of the Continental Army, a major force at the Constitutional Convention, and the first President of the United States of America.

Remembered by the Congress as “first in war, first in peace, and first in the hearts of his countrymen,” George Washington dedicated his life to the success of America. During the Revolutionary War, Washington's small band of hungry soldiers faced the professional army of a great empire, and his unshakable vision for a new democracy proved a powerful inspiration to his troops. Knowing that the outcome of their struggle would determine “the destiny of unborn Millions,” Washington led his often ragged forces beyond incredible hardships into battle and on to victory with strength, steadfastness, and a quiet confidence.

The triumphant General treasured his brief time at home, but his devotion to duty and belief in the promise of a more perfect Union lured Washington from Mount Vernon. He presided over the Constitutional Convention with wisdom, diplomacy, and humility and helped form the working model of our democracy. When the Constitution was ratified, America again turned to a beloved and proven leader, electing George Washington as the first President of the United States.

As we celebrate the life of George Washington and his contributions to the American experiment, we can also take pride in our stewardship of the Republic he forged. Today, he would see in America the world's foremost champion of liberty—a Nation that stands for freedom for all, a Nation that stands with democratic reformers, and a Nation that stands up to tyranny and terror. On his 275th birthday, George Washington would see an America fulfilling the promise of her Founders, honoring the durable wisdom of our Constitution, and moving forward in the world with confidence, compassion, and strength.

NOW, THEREFORE, I, GEORGE W. BUSH, President of the United States of America, by virtue of the authority vested in me by the Constitution and laws of the United States, do hereby proclaim February 22, 2007, as the 275th Anniversary of the Birth of George Washington. I encourage all Americans to join me in honoring the Father of our Country with appropriate civic and service programs and activities in remembrance of George Washington and with gratitude for all he gave for his country.

IN WITNESS WHEREOF, I have hereunto set my hand this sixteenth day of February, in the year of our Lord two thousand seven, and of the Independence of the United States of America the two hundred and thirty-first.

[FR Doc. 07-868

Filed 2-22-07; 9:32 am]

Billing code 3195-01-P